DEPARTMENT OF DEFENSE

Office of the Secretary

Defense Science Board

AGENCY: Department of Defense.

ACTION: Notice of Advisory Committee Meeting Date Change.

SUMMARY: On Thursday, August 17, 2006 (71 FR 47491) the Department of Defense announced a meeting of the Defense Science Board (DSB) Task Force on Defense Industrial Structure for Transformation. The October 2006 meeting date have been revised from October 10, 2006 to October 10 and 11, 2006. The task force will meet in closed session. The meeting will be held at the Pentagon on October 10, 2006; and Science Applications International Corporation (SAIC), 4001 N. Fairfax Drive, Arlington, VA on October 11, 2006.

FOR FURTHER INFORMATION CONTACT: MAJ Chad Lominac, USAF, Defense Science Board, 3140 Defense Pentagon, Room 3C553, Washington, DC 20301-3140, via e-mail at charles.lominac@osd.mil, or via phone at (703) 571-0081.

Dated: September 22, 2006.
C.R. Choate,
Alternate OSD Federal Register Liaison Officer, Department of Defense.

[FR Doc. 06-8316 Filed 9-26-06; 8:45 am]

BILLING CODE 5001-06-M